DEPARTMENT OF ENERGY

Federal Energy Regulatory Commission

Combined Notice of Filings #1

Take notice that the Commission received the following electric corporate filings:

Docket Numbers: EC20-93-000.

Applicants: Tatanka Ridge Wind, LLC, WEC Infrastructure LLC.

Description: Joint Application for Authorization Under Section 203 of the Federal Power Act, et al. of Tatanka Ridge Wind, LLC, et al.

Filed Date: 8/28/20.

Accession Number: 20200828-5274.

Comments Due: 5 p.m. ET 9/18/20.

Take notice that the Commission received the following electric rate filings:

Docket Numbers: ER10-2721-009.

Applicants: El Paso Electric Company.

Description: Notice of Non-Material Change in Status of El Paso Electric Company.

Filed Date: 8/28/20.

Accession Number: 20200828-5268.

Comments Due: 5 p.m. ET 9/18/20.

Docket Numbers: ER15-632-010; ER14-2140-010; ER14-2141-010; R14-2465-011; ER14-2466-011; R14-2939-008; ER15-1952-008; R15-2728-010; ER15-634-010.

Applicants: CID Solar, LLC, Cottonwood Solar, LLC, RE Columbia Two LLC, RE Camelot LLC, Pavant Solar LLC, Imperial Valley Solar Company (IVSC) 2, LLC, Maricopa West Solar PV, LLC, Mulberry Farm, LLC, Selmer Farm, LLC.

Description: Notice of Non-Material Change in Status of the Dominion Companies, et al.

Filed Date: 8/28/20.

Accession Number: 20200828-5280.

Comments Due: 5 p.m. ET 9/18/20.

Docket Numbers: ER20-940-002.

Applicants: Midcontinent Independent System Operator, Inc.

Description: Compliance filing: 2020-08-31_Additional Compliance filing to SPP-JOA related to Affected Systems to be effective 4/4/2020.

Filed Date: 8/31/20.

Accession Number: 20200831-5353.

Comments Due: 5 p.m. ET 9/21/20.

Docket Numbers: ER20-2772-000.

Applicants: New England Power Pool Participants Committee.

Description: § 205(d) Rate Filing: September 2020 Membership Filing to be effective 9/1/2020.

Filed Date: 8/28/20.

Accession Number: 20200828-5228.

Comments Due: 5 p.m. ET 9/18/20.

Docket Numbers: ER20-2773-000.

Applicants: NSTAR Electric Company.

Description: Initial rate filing: NSTAR-NEMC Transfer Agreement (ENE Use Rights) to be effective 9/26/2020.

Filed Date: 8/31/20.

Accession Number: 20200831-5191.

Comments Due: 5 p.m. ET 9/21/20.

Docket Numbers: ER20-2774-000.

Applicants: NSTAR Electric Company.

Description: Initial rate filing: NSTAR-HQUS Transfer Agreement (CMEEC Use Rights) to be effective10/31/2020.

Filed Date: 8/31/20.

Accession Number: 20200831-5196.

Comments Due: 5 p.m. ET 9/21/20.

Docket Numbers: ER20-2775-000.

Applicants: PJM Interconnection, L.L.C.

Description: Compliance filing: Compliance Filing Pursuant to July 16 Order re: EL14-37-000 UTC Transactions to be effective 12/31/9998.

Filed Date: 8/31/20.

Accession Number: 20200831-5200.

Comments Due: 5 p.m. ET 9/21/20.

Docket Numbers: ER20-2776-000.

Applicants: NSTAR Electric Company.

Description: Initial rate filing: NSTAR-HQUS Transfer Agreement (MMWEC Use Rights) to be effective10/31/2020.

Filed Date: 8/31/20.

Accession Number: 20200831-5206.

Comments Due: 5 p.m. ET 9/21/20.

Docket Numbers: ER20-2777-000.

Applicants: Alabama Power Company.

Description: § 205(d) Rate Filing: Aurora Solar (Brenneman Solar) LGIA Filing to be effective 8/17/2020.

Filed Date: 8/31/20.

Accession Number: 20200831-5209.

Comments Due: 5 p.m. ET 9/21/20.

Docket Numbers: ER20-2778-000.

Applicants: Alabama Power Company.

Description: § 205(d) Rate Filing: AL Solar C (Cusseta Solar & Storage) LGIA Filing to be effective 8/17/2020.

Filed Date: 8/31/20.

Accession Number: 20200831-5212.

Comments Due: 5 p.m. ET 9/21/20.

Docket Numbers: ER20-2779-000.

Applicants: Southwest Power Pool, Inc.

Description: § 205(d) Rate Filing: 3215R8 People's Electric Cooperative NITSA NOAs to be effective 8/1/2020.

Filed Date: 8/31/20.

Accession Number: 20200831-5231.

Comments Due: 5 p.m. ET 9/21/20.

Docket Numbers: ER20-2780-000.

Applicants: Midcontinent Independent System Operator, Inc.

Description: § 205(d) Rate Filing: 2020-08-31_SA 2997 MidAmerican-MidAmerican 3rd Rev GIA (J529 J590) to be effective 8/17/2020.

Filed Date: 8/31/20.

Accession Number: 20200831-5265.

Comments Due: 5 p.m. ET 9/21/20.

Docket Numbers: ER20-2781-000.

Applicants: Tri-State Generation and Transmission Association.

Description: Tariff Cancellation: Notice of Cancellation of Service Agreement No. 830 to be effective 2/25/2020.

Filed Date: 8/31/20.

Accession Number: 20200831-5304.

Comments Due: 5 p.m. ET 9/21/20.

Docket Numbers: ER20-2782-000.

Applicants: Midcontinent Independent System Operator, Inc.

Description: § 205(d) Rate Filing: 2020-08-31_SA 3061 MidAmerican-MidAmerican 2nd Rev GIA (J475 J555) to be effective 8/17/2020.

Filed Date: 8/31/20.

Accession Number: 20200831-5307.

Comments Due: 5 p.m. ET 9/21/20.

Docket Numbers: ER20-2783-000.

Applicants: ISO New England Inc.,Versant Power.

Description: § 205(d) Rate Filing: Versant Power; Amendment of Schedule 20A-VP to be effective 11/1/2020.

Filed Date: 8/31/20.

Accession Number: 20200831-5315.

Comments Due: 5 p.m. ET 9/21/20.

Docket Numbers: ER20-2784-000.

Applicants: PJM Interconnection, L.L.C.

Description: § 205(d) Rate Filing: Original WMPA, Service Agreement No. 5753; Queue No. AF2-427 to be effective 8/18/2020.

Filed Date: 8/31/20.

Accession Number: 20200831-5325.

Comments Due: 5 p.m. ET 9/21/20.

Docket Numbers: ER20-2785-000.

Applicants: PJM Interconnection, L.L.C.

Description: § 205(d) Rate Filing: Revisions to Schedule 12-Appendix A to Reflect Rochelle/ComEd Transfer to be effective 6/9/2020.

Filed Date: 8/31/20.

Accession Number: 20200831-5326.

Comments Due: 5 p.m. ET 9/21/20.

Docket Numbers: ER20-2786-000.

Applicants: Southwest Power Pool, Inc.

Description: § 205(d) Rate Filing: 1148R28 American Electric Power NITSA and NOA to be effective 8/1/2020.

Filed Date: 8/31/20.

Accession Number: 20200831-5328.

Comments Due: 5 p.m. ET 9/21/20.

Docket Numbers: ER20-2787-000.

Applicants: Greenleaf Energy Unit 2 LLC.

Description: Tariff Cancellation: Cancellation filing to be effective 10/30/2020.

Filed Date: 8/31/20.

Accession Number: 20200831-5340.

Comments Due: 5 p.m. ET 9/21/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2020.
Nathaniel J. Davis, Sr.,
Deputy Secretary.

[FR Doc. 2020-19608 Filed 9-3-20; 8:45 am]

BILLING CODE 6717-01-P